NATIONAL SCIENCE FOUNDATION

Advisory Committee for Biological Sciences; Notice of Meeting

In accordance with the Federal Advisory Committee Act (Pub. L. 92-463, as amended), the National Science Foundation announces the following meeting:

Name: Advisory Committee for Biological Sciences (#1110).

Date and Time:

October 24, 2016; 8:30 a.m.-5:00 p.m.

October 25, 2016; 8:30 a.m.-11:30 a.m.

Place: National Science Foundation, 4201 Wilson Boulevard, Room 1235, Arlington, VA 22230.

Please contact Rachel Evans at rlevans@nsf.gov to obtain a visitor badge. All visitors to the NSF will be required to show photo ID to obtain a badge.

Type of Meeting: Open.

Contact Person: Charles Liarakos, National Science Foundation, 4201 Wilson Boulevard, Room 605, Arlington, VA 22230; Tel No.: (703) 292-8400.

Purpose of Meeting: The Advisory Committee for the Directorate for Biological Sciences (BIO) provides advice, recommendations, and oversight concerning major program emphases, directions, and goals for the research-related activities of the divisions that make up BIO.

Agenda: Agenda items will include a NEON project update, presentations from the Advisory Committee members about leading edge science, a synopsis of the Division of Biological Infrastructure Committee of Visitors' report, and other matters relevant to the Directorate for Biological Sciences.

Dated: September 26, 2016.
Crystal Robinson,
Committee Management Officer.

[FR Doc. 2016-23643 Filed 9-29-16; 8:45 am]

BILLING CODE 7555-01-P